DEPARTMENT OF LABOR

Employment and Training Administration

[TA-W-63,833]

CMA Actuation Products, Philipsburg, PA; Notice of Termination of Investigation

Pursuant to Section 221 of the Trade Act of 1974, as amended, an investigation was initiated on August 7, 2008, in response to a petition filed by a company official on behalf of workers of CMA Actuation Products, Philipsburg, Pennsylvania.

The petitioner has requested that the petition be withdrawn. Consequently, the investigation has been terminated.

Signed at Washington, DC, this 14th day of August, 2008.
Linda G. Poole,
Certifying Officer, Division of Trade Adjustment Assistance.

[FR Doc. E8-19403 Filed 8-20-08; 8:45 am]

BILLING CODE 4510-FN-P